DEPARTMENT OF TRANSPORTATION

Federal Aviation Administration

14 CFR Part 71

[Docket No. FAA-2018-0219; Airspace Docket No. 17-AGL-23]

RIN 2120-AA66

Amendment of Air Traffic Service (ATS) Routes in the Vicinity of Mattoon and Charleston, IL

AGENCY: Federal Aviation Administration (FAA), DOT.

ACTION: Final rule.

SUMMARY: This action modifies two VHF Omnidirectional Range (VOR) Federal airways (V-72 and V-429) in the vicinity of Mattoon and Charleston, IL. The FAA is taking this action due to the planned decommissioning of the Mattoon, IL, VOR/Distance Measuring Equipment (VOR/DME) navigation aid (NAVAID), which provides navigation guidance for portions of the affected ATS routes. The Mattoon VOR is being decommissioned in support of the FAA's VOR Minimum Operational Network (MON) program.

DATES: Effective date 0901 UTC, November 8, 2018. The Director of the Federal Register approves this incorporation by reference action under Title 1, Code of Federal Regulations, part 51, subject to the annual revision of FAA Order 7400.11 and publication of conforming amendments.

ADDRESSES: FAA Order 7400.11B, Airspace Designations and Reporting Points, and subsequent amendments can be viewed online at http://www.faa.gov/air_traffic/publications/. For further information, you can contact the Airspace Policy Group, Federal Aviation Administration, 800 Independence Avenue SW, Washington, DC 20591; telephone: (202) 267-8783. The Order is also available for inspection at the National Archives and Records Administration (NARA). For information on the availability of FAA Order 7400.11B at NARA, call (202) 741-6030, or go to https://www.archives.gov/federal-register/cfr/ibr-locations.html.

FAA Order 7400.11, Airspace Designations and Reporting Points, is published yearly and effective on September 15.

FOR FURTHER INFORMATION CONTACT: Colby Abbott, Airspace Policy Group, Office of Airspace Services, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it would support the route structure in the Mattoon and Charleston, IL, area as necessary to preserve the safe and efficient flow of air traffic within the National Airspace System (NAS).

History

The FAA published a notice of proposed rulemaking in the Federal Register for Docket No. FAA-2018-0219 (83 FR 12883; March 26, 2018) to amend VOR Federal airways V-72 and V-429 due to the planned decommissioning of the Mattoon, IL, VOR. Interested parties were invited to participate in this rulemaking effort by submitting written comments on the proposal. One comment was received from the Illinois Department of Transportation (IDOT).

In their comment, IDOT recommended the FAA amend theV-429 airway segment between the Bible Grove, IL, VOR/Tactical Air Navigation (VORTAC), Mattoon, IL, VOR/DME, and Champaign, IL, VORTAC by establishing a segment running directly between the Bible Grove VORTAC and Champaign VORTAC. They argued the discontinuity of the FAA proposal to remove the V-429 airway segment between the Bible Grove and Champaign VORTACs does not make effective use of the airspace in the area. In support of their recommendation, they noted the Bible Grove and Champaign VORTACs are located 68 nautical miles (NM) apart and establishing an airway segment between the two NAVAIDs is within the associated standard service volume (40 NM each) with a total segment service volume of 80 NM.

In support of Next Generation Air Transportation System (NextGen) initiatives aimed at modernizing the NAS to make flying safer, more efficient, and more predictable, the FAA is working to reduce the NAS dependency on its conventional navigational infrastructure and transition to a performance based navigation (PBN) infrastructure. To that end, as part of a NAS Efficient Streamlined Services Initiative, the VOR MON program is working to gradually reduce the number of conventional legacy NAVAIDs while more efficient PBN area navigation (RNAV) air traffic service (ATS) routes and procedures are being implemented throughout the NAS. As such, the FAA's goal is to provide additional RNAV ATS routes, point-to-point navigation where operationally beneficial, and to remove most conventional ATS routes, except where needed in mountainous regions and areas without radar coverage.

As noted in the NPRM, the FAA identified available mitigations to overcome the proposed gaps in theV-72 and V-429 ATS routes. Instrument flight rules (IFR) traffic could use adjacent VOR Federal airways (including V-5, V-7, V-69, V-171,V-191, V-192, V-262, and V-586) to circumnavigate the affected area; file point to point through the affected area using fixes that will remain in place; or receive air traffic control (ATC) radar vectors through the area. And, visual flight rules (VFR) pilots who elect to navigate via V-72 and V-429 through the affected area could also take advantage of the adjacent VOR Federal airways or ATC services. Additionally, the FAA planned to retain the Mattoon DME facility, charted as a DME facility, using the existing “MTO” three-letter identifier.

In consideration of IDOT's recommendation, the FAA agrees that amending V-429 by establishing an airway segment directly between the Bible Grove and Champaign legacy VORTACs would continue to provide an uninterrupted, conventional ATS route between the Cape Girardeau, MO, VOR/DME and Joliet, IL, VORTAC. However, the FAA also notes that IDOT's recommendation does not support the FAA's NextGen efforts to modernize the NAS and that the mitigations identified in the NPRM provide alternatives for pilots to overcome and navigate through the ATS route gaps in the Charleston and Mattoon area that are successfully used in other parts of the NAS. As such, the FAA is moving forward with the ATS route amendments as proposed in the NPRM.

Although the determination is to proceed with the amendments to V-72 and V-429 addressed in the NPRM, the FAA is in the planning stages for establishing a PBN area navigation (RNAV) T-route that closely mirrors the ATS route segment recommended by IDOT, beginning near the Bible Grove VORTAC and proceeding northbound to near the Champaign VORTAC. Once all the coordination and development actions for establishing that RNAV T-route are completed, the FAA will propose the new T-route in a separate rulemaking action.

VOR Federal airways are published in paragraph 6010(a) of FAA Order 7400.11B dated August 3, 2017, and effective September 15, 2017, which is incorporated by reference in 14 CFR 71.1. The VOR Federal airways listed in this document will be subsequently published in the Order.

Availability and Summary of Documents for Incorporation by Reference

This document amends FAA Order 7400.11B, Airspace Designations and Reporting Points, dated August 3, 2017, and effective September 15, 2017. FAA Order 7400.11B is publicly available as listed in the ADDRESSES section of this document. FAA Order 7400.11B lists Class A, B, C, D, and E airspace areas, air traffic service routes, and reporting points.

The Rule

The FAA is amending Title 14, Code of Federal Regulations (14 CFR) part 71 by modifying the descriptions of VOR Federal airways V-72 and V-429 due to the planned decommissioning of the Mattoon, IL, VOR. The VOR Federal airway changes are described below.

V-72: V-72 extends between the Razorback, AR, VOR/Tactical Air Navigation (VORTAC) and the Bloomington, IL, VOR/DME. The airway segment between the Bible Grove, IL, VORTAC and the Bloomington, IL, VOR/DME is removed. The unaffected portions of the existing airway remain as charted.

V-429: V-429 extends between the Cape Girardeau, MO, VOR/DME and the Joliet, IL, VORTAC. The airway segment between the Bible Grove, IL, VORTAC and the Champaign, IL, VORTAC is removed. The unaffected portions of the existing airway remain as charted.

All radials in the route descriptions below are unchanged and stated in True degrees.

Regulatory Notices and Analyses

The FAA has determined that this regulation only involves an established body of technical regulations for which frequent and routine amendments are necessary to keep them operationally current. It, therefore: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action of modifying VOR Federal airways V-72 and V-429 in the vicinity of Mattoon and Charleston, IL, qualifies for categorical exclusion under the National Environmental Policy Act, 42 U.S.C. 4321, and its implementing regulations at 40 CFR part 1500, and in accordance with FAA Order 1050.1F, Environmental Impacts: Policies and Procedures, paragraph 5-6.5a, which categorically excludes from further environmental impact review rulemaking actions that designate or modify classes of airspace areas, airways, routes, and reporting points (see 14 CFR part 71, Designation of Class A, B, C, D, and E Airspace Areas; Air Traffic Service Routes; and Reporting Points). As such, this action is not expected to result in any potentially significant environmental impacts. In accordance with FAA Order 1050.1F, paragraph 5-2 regarding Extraordinary Circumstances, the FAA has reviewed this action for factors and circumstances in which a normally categorically excluded action may have a significant environmental impact requiring further analysis. The FAA has determined that no extraordinary circumstances exist that warrant preparation of an environmental assessment or environmental impact study.

List of Subjects in 14 CFR Part 71

Airspace, Incorporation by reference, Navigation (air).

The Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order 7400.11B, Airspace Designations and Reporting Points, dated August 3, 2017 and effective September 15, 2017, is amended as follows:

Paragraph 6010(a) Domestic VOR Federal Airways.

* * * * *

V-72 [Amended]

From Razorback, AR; Dogwood, MO; INT Dogwood 058° and Maples, MO, 236° radials; Maples; Farmington, MO; Centralia, IL; to Bible Grove, IL.

* * * * *

V-429 [Amended]

From Cape Girardeau, MO; Marion, IL; INT Marion 011° and Bible Grove, IL, 207° radials; to Bible Grove. From Champaign, IL; Roberts, IL; to Joliet, IL.

Issued in Washington, DC, on August 29, 2018.
Scott M. Rosenbloom,
Acting Manager, Airspace Policy Group.

[FR Doc. 2018-19347 Filed 9-6-18; 8:45 am]

BILLING CODE 4910-13-P